NATIONAL AERONAUTICS AND SPACE ADMINISTRATION

[Notice (05-161)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: December 9, 2005.

FOR FURTHER INFORMATION CONTACT: James J. McGroary; Patent Counsel, Marshall Space Flight Center, Mail Code LS01, Huntsville, AL 35812; telephone (256) 544-6580; fax (256) 544-0258.

NASA Case No. MFS-32136-1: Video Image Stabilization And Registration—Plus (VISAR+);

NASA Case No. MFS-32000-1: Miniature Housing With Standard Addressable Interface For Smart Sensors And Drive Electronics;

NASA Case No. MFS-31842-1: Gas Volume Contents Within A Container, Smart Volume Instrument.

Dated: December 5, 2005.
Keith T. Sefton,
Deputy General Counsel, Administration and Management.

[FR Doc. E5-7161 Filed 12-8-05; 8:45 am]

BILLING CODE 7510-13-P